DEPARTMENT OF LABOR

Employment and Training Administration

[TA-W-71,600; TA-W-71,600A]

The Gemological Institute of America, Carlsbad, CA; the Gemological Institute of America, New York, NY; Notice of Revised Determination on Reconsideration

The initial investigation, initiated on July 8, 2009, resulted in a negative determination, issued on January 20, 2010, that was based on the findings that the workers' firm did not import services like or directly competitive with the services performed by the workers in 2007, 2008, or in January through June 2009 nor did the firm shift those services to a foreign country during the relevant time period; and that the workers' firm is not a supplier or downstream producer to a firm with a TAA-certified worker group. The notice of negative determination was published in the Federal Register on March 5, 2010 (75 FR 10323).

To support the request for reconsideration, the petitioner asserted that there had been a shift in production from the United States to India.

During the request for reconsideration, the Department obtained additional information that, since 2007, the subject firm had significantly increased its reliance on revenues from its overseas operations.

Conclusion

After careful review of the additional facts obtained on reconsideration, I determine that workers of The Gemological Institute of America, Carlsbad, California and New York, New York, who provide jewelry grading and educational services, meet the worker group certification criteria under Section 222(a) of the Act, 19 U.S.C. 2272(a). In accordance with Section 223 of the Act, 19 U.S.C. 2273, I make the following certification:

All workers of The Gemological Institute of America, Carlsbad, California (TA-W-71,600) and The Gemological Institute of America, New York, New York (TA-W-71,600A), who became totally or partially separated from employment on or after July 7, 2008, through two years from the date of this certification, and all workers in the group threatened with total or partial separation from employment on date of certification through two years from the date of certification, are eligible to apply for adjustment assistance under Chapter 2 of Title II of the Trade Act of 1974, as amended.

Signed in Washington, DC, this 19th day of May 2010.
Del Min Amy Chen,
Certifying Officer, Division of Trade Adjustment Assistance.

[FR Doc. 2010-13509 Filed 6-4-10; 8:45 am]

BILLING CODE 4510-FN-P